COMMITTEE FOR PURCHASE FROM PEOPLE WHO ARE BLIND OR SEVERELY DISABLED

Procurement List; Additions to and Deletions

AGENCY: Committee for Purchase From People Who Are Blind or Severely Disabled.

ACTION: Additions to and Deletions from the Procurement List.

SUMMARY: This action adds products and services to the Procurement List that will be furnished by nonprofit agencies employing persons who are blind or have other severe disabilities, and deletes products and services from the Procurement List previously furnished by such agencies.

DATES: Effective Date: 5/6/2013.

ADDRESSES: Committee for Purchase From People Who Are Blind or Severely Disabled, 1401 Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 2/1/2013 (78 FR 7412-7413) and 2/8/2013 (78 FR 9386-9387), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN: MR 1153—Basket, Cooking, Steel, Multipurpose

NSN: MR 1159—Set, Bakeware, Cake Pop

NPA: Industries for the Blind, Inc., West Allis, WI

Contracting Activity: DEFENSE COMMISSARY AGENCY, FORT LEE, VA

Coverage: C-List for the requirements of military commissaries and exchanges as aggregated by the Defense Commissary Agency.

NSN: 7025-00-NIB-0004—Mouse, Optical Sensor, Black and Grey, Ergonomic shaped

NPA: L.C. Industries for the Blind, Inc., Durham, NC

Contracting Activity: GENERAL SERVICES ADMINISTRATION, NEW YORK, NY

Coverage: A-List for the Total Government Requirement as aggregated by the General Services Administration.

NSN: 7510-00-NIB-9843—Self Stick Rectangular Flag, .5” x 1.7”, Multi Pack (Red/yellow/blue/green)

NPA: Association for the Blind and Visually Impaired—Goodwill Industries of Greater Rochester, Rochester, NY

Contracting Activity: GENERAL SERVICES ADMINISTRATION, NEW YORK, NY

Coverage: A-List for the Total Government Requirement as aggregated by the General Services Administration.

Services

Service Type/Location: Custodial/Janitorial Service, Cochiti Lake Project Office, 82 Dam Crest Road, Pena Blanca, NM

NPA: Adelante Development Center, Inc., Albuquerque, NM

Contracting Activity: DEPT OF THE ARMY, W075 ENDIST ALBUQUERQUE, ALBUQUERQUE, NM

Service Type/Location: Custodial Service, Toulson Courthouse, 129 East Main Street, Salisbury, MD

NPA: Worcester County Developmental Center, Newark, MD

Contracting Activity: PUBLIC BUILDINGS SERVICE, GSA/PBS/R03 SOUTH SERVICE CENTER, PHILADELPHIA, PA

Deletions

On 3/23/2012 (77 FR 17035), 4/27/2012 (77 FR 25146-25147), 5/11/2012 (77 FR 27737), 5/25/2012 (77 FR 31335-31336), 6/29/2012 (77 FR 38775-38776), 8/3/2012 (77 FR 46411), 10/5/2012 (77 FR 60969), 10/12/2012 (77 FR 62219-62220), 10/26/2012 (77 FR 65365), 11/2/2012 (77 FR 66181), 11/16/2012 (77 FR 68737-68738), 12/7/2012 (77 FR 73025-73026), 1/18/2013 (78 FR 4133-4134), 2/8/2013 (78 FR 9386-9387), and 2/15/2013 (78 FR 11159), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN: 7530-00-238-4316—Card, Index

NSN: 7530-01-037-5556—Paper, Mimeograph and Duplicating

NPA: Louisiana Association for the Blind, Shreveport, LA

Contracting Activity: GENERAL SERVICES ADMINISTRATION, NEW YORK, NY

NSN: 7520-01-585-0981—Calendar, Wall, Monthly Undated/Yearly Dated

NPA: The Chicago Lighthouse for People Who Are Blind or Visually Impaired, Chicago, IL

Contracting Activity: GENERAL SERVICES ADMINISTRATION, FSS HOUSEHOLD AND INDUSTRIAL FURNITURE, ARLINGTON, VA

Shredders

NSN: 7490-01-567-4337—Fellowes Model 4000CC

NSN: 7490-01-567-4338—Fellowes Model 4000SC

NSN: 7490-01-567-4339—Fellowes Model 970CC

NPA: L.C. Industries for the Blind, Inc., Durham, NC

Contracting Activity: GENERAL SERVICES ADMINISTRATION, NEW YORK, NY

NSN: 8345-00-260-2724—Flag, Signal, Vehicle, Danger Red

NPA: There was no other nonprofit agency authorized to furnish the products.

Contracting Activity: DEFENSE LOGISTICS AGENCY TROOP SUPPORT, PHILADELPHIA, PA

Envelope, Wallet

NSN: 7530-00-NIB-0260

NSN: 7530-00-NIB-0261

NSN: 7530-00-NIB-0262

NPA: There was no other nonprofit agency authorized to furnish the products.

Contracting Activity: NATL GEOSPATIAL-INTELLIGENCE AGENCY, BETHESDA, MD

Binder, Loose-leaf, 3-Ring

NSN: 7510-01-484-1760

NSN: 7510-01-484-1752

NSN: 7510-01-484-1750

NSN: 7510-01-484-1751

NSN: 7510-01-484-1748

NSN: 7510-01-484-1749

NPA: South Texas Lighthouse for the Blind, Corpus Christi, TX

Contracting Activity: GENERAL SERVICES ADMINISTRATION, NEW YORK, NY

NSN: 7045-01-599-9345—USB Flash Drive, 256-Bit AES Encryption, Level 3 Encrypted, Anti-Virus, 4GB

NSN: 7045-01-599-9346—USB Flash Drive, 256-Bit AES Encryption, Level 3 Encrypted, Anti-Virus, 32GB

NSN: 7045-01-599-9348—USB Flash Drive, 256-Bit AES Encryption, Level 3 Encrypted, Anti-Virus, 8GB

NSN: 7045-01-599-9352—USB Flash Drive, 256-Bit AES Encryption, Level 3 Encrypted, 2GB

NSN: 7045-01-599-9354—USB Flash Drive, 256-Bit AES Encryption, Level 3 Encrypted, Anti-Virus, 2GB

NSN: 7045-01-599-9353—USB Flash Drive, 256-Bit AES Encryption, Level 3 Encrypted, Anti-Virus, 16GB

NSN: 7045-01-568-9694—USB 2.0 Hard Drive, Portable, 320G

NPA: North Central Sight Services, Inc., Williamsport, PA

Contracting Activity: GENERAL SERVICES ADMINISTRATION, NEW YORK, NY

NSN: 7420-01-484-1758—Clipboard w/Calculator

NPA: MidWest Enterprises for the Blind, Inc., Kalamazoo, MI

Contracting Activity: GENERAL SERVICES ADMINISTRATION, NEW YORK, NY

Bag, Sleeping, Firefighter's

NSN: 8465-00-081-0798

NPAs: Blind Industries & Services of Maryland, Baltimore, MD

RLCB, Raleigh, NC

Contracting Activity: GENERAL SERVICES ADMINISTRATION, FORT WORTH, TX

Glove Powder Free, Encore Hydrasoft

NSN: 6515-00-NIB-0445

NSN: 6515-00-NIB-0446

NSN: 6515-00-NIB-0447

NSN: 6515-00-NIB-0448

NSN: 6515-00-NIB-0449

NSN: 6515-00-NIB-0450

NSN: 6515-00-NIB-0451

NSN: 6515-00-NIB-0452

NPA: Bosma Industries for the Blind, Inc., Indianapolis, IN

Contracting Activity: DEPARTMENT OF VETERANS AFFAIRS, NAC, HINES, IL

NSN: 9905-00-565-6268—Sign Kit, Replacement

NPA: CW Resources, Inc., New Britain, CT

Contracting Activity: GENERAL SERVICES ADMINISTRATION, FORT WORTH, TX

NSN: 8465-00-860-0256—Cover, Water Canteen

NPA: Human Technologies Corporation, Utica, NY

Contracting Activity: DEFENSE LOGISTICS AGENCY TROOP SUPPORT, PHILADELPHIA, PA

Mat, Floor Rubber

NSN: 2540-01-298-8449—61” x 36” fabricated mat, reinforced with steel wire

NPA: Hope Haven, Inc., Rock Valley, IA

Contracting Activity: DEFENSE LOGISTICS AGENCY LAND AND MARITIME, COLUMBUS, OH

SKILCRAFT-Spartan chemical cleaners

NSN: 8125-00-NIB-0032—Spray Bottle, Tb-Cide Plus II Disinfectant

NSN: 7930-00-NIB-0578—GreenSolutions High Dilution 256 Neutral Disinfect

NSN: 7930-00-NIB-0579—Tb-Cide Plus II Disinfectant

NSN: 7930-00-NIB-0597—Tb-Cide Quat RTU Disinfectant

NPA: Susquehanna Association for the Blind and Vision Impaired, Lancaster, PA

Contracting Activity: DEPARTMENT OF VETERANS AFFAIRS, NAC, HINES, IL

NSN: 8465-01-524-2765—Hydramax Hydration System, ALPHA Reflector, Orange Reflective Tape

NPA: The Lighthouse for the Blind, Inc. (Seattle Lighthouse), Seattle, WA

Contracting Activity: GENERAL SERVICES ADMINISTRATION, FORT WORTH, TX

NSN: 7520-01-584-1378—Pen & Calculator Case, Rosewood

NPA: Tarrant County Association for the Blind, Fort Worth, TX

Contracting Activity: GENERAL SERVICES ADMINISTRATION, NEW YORK, NY

NSN: 8115-00-NIB-0001—Container, Mailing Cassette

NSN: 8115-00-NIB-0003—Cassette, Mailing Container

NPA: L.C. Industries for the Blind, Inc., Durham, NC

Contracting Activity: LIBRARY OF CONGRESS, WASHINGTON DC

Cloth, Abrasive, Aluminum-oxide, 50 Grit, Drill Back, Grey, 50 Yard

NSN: 5350-00-187-6275—1”

NSN: 5350-00-187-6297—2”

NPA: Louisiana Association for the Blind, Shreveport, LA

Contracting Activity: GENERAL SERVICES ADMINISTRATION, FORT WORTH, TX

NSN: 7520-01-510-7490—Pen, Retractable, Cushion Grip, Gel Ink, Dignitary

NSN: 7520-01-510-7491—Pen, Retractable, Cushion Grip, Gel Ink, Dignitary

NSN: 7510-01-510-7493—Refill, Dignitary Gel Ink Pen

NSN: 7510-01-510-8416—Refill, Dignitary Gel Ink Pen

NPA: Industries of the Blind, Inc., Greensboro, NC

Contracting Activity: GENERAL SERVICES ADMINISTRATION, NEW YORK, NY

Services

Service Type/Location: Janitorial/Ground Maintenance Service, U.S. Army Reserve Center: Mt. View, Mt. View, CA

NPA: Social Vocational Services, Inc., San Jose, CA

Contracting Activity: DEPT OF THE ARMY, W40M NATL REGION CONTRACT OFC, FORT BELVOIR, VA

Service Type/Location: Sorting of Time & Attendance Reports Service, Department of Transportation, 1777 Phoenix Parkway Building, College Park, GA

NPA: WORKTEC, Jonesboro, GA

Contracting Activity: DEPARTMENT OF TRANSPORTATION, SAINT LAWRENCE SEAWAY DEVELOPMENT CORP., MASSENA, NY

Service Type/Location: Mailroom Operation Service, U.S. Army Reserve Command, Atlanta, GA

NPA: WORKTEC, Jonesboro, GA

Contracting Activity: DEPT OF THE ARMY, W6QM MICC CTR-FT SAM HOUSTON, FORT SAM HOUSTON, TX

Service Type/Location: Janitorial/Custodial Service, Defense Logistics Agency: Point Pleasant Depot, Defense National Stockpile Zone, 2601 Madison Avenue, Point Pleasant, WV

NPA: Prestera Center for Mental Health Services, Inc., Huntington, WV

Contracting Activity: DEFENSE LOGISTICS AGENCY SUPPORT SERVICES—DSS, FORT BELVOIR, VA

Service Type/Location: Facilities Maintenance Service, Yakima Training Center and Multipurpose Range Complex, Multipurpose Training Range, Yakima, WA

NPA: Skookum Educational Programs, Bremerton, WA

Contracting Activity: DEPARTMENT OF THE ARMY, W6QM FT LEWIS, DIRECTORATE OF CONTRACTING, FORT LEWIS, WA

Barry S. Lineback,
Director, Business Operations.

[FR Doc. 2013-07986 Filed 4-4-13; 8:45 am]

BILLING CODE 6353-01-P